DEPARTMENT OF TRANSPORTATION

Federal Aviation Administration

Agency Information Collection Activities: Requests for Comments; Clearance of Renewed Approval of Information Collection: Airports Grants Program

AGENCY: Federal Aviation Administration (FAA), DOT.

ACTION: Notice and request for comments.

SUMMARY: In accordance with the Paperwork Reduction Act of 1995, FAA invites public comments about our intention to request the Office of Management and Budget (OMB) approval to renew an information collection. The FAA collects information from airport sponsors and planning agencies in order to administer the Airports Grants Program. Data is used to determine eligibility, ensure proper use of Federal Funds, and ensure project accomplishment.

DATES: Written comments should be submitted by October 30, 2012.

FOR FURTHER INFORMATION CONTACT: Kathy DePaepe at (405) 954-9362, or by email at: Kathy.A.DePaepe@faa.gov.

SUPPLEMENTARY INFORMATION:

OMB Control Number: 2120-0569.

Title: Airports Grants Program.

Form Numbers: FAA forms 5100-100, 5100-101, 5100-108, 5100-125, 5100-126, and 5370-1.

Type of Review: Renewal of an information collection.

Background: Codification of Certain U.S. Transportation Laws at 49 U.S.C. (Pub. L. 103-272), which is referred to as the “Act,” provides funding for airport planning and development projects at airports included in the National Plan of Integrated Airport Systems. The Act also authorizes funds for noise compatibility planning and to carry out noise compatibility programs. The information required by this program is necessary to protect the Federal interest in safety, efficiency, and utility of the Airport. Data is collected to meet report requirements of 49 CFR part 18 for financial management and performance monitoring. Information is collected in the application, and grant agreement amendments; financial management; and performance reporting.

Respondents: Approximately 1,950 sponsors and planning agencies for grant projects.

Frequency: Information is collected on occasion.

Estimated Average Burden per Response: 6.75 hours.

Estimated Total Annual Burden: 80,569 hours.

ADDRESSES: Send comments to the FAA at the following address: Ms. Kathy DePaepe, Room 126B, Federal Aviation Administration, AES-200, 6500 S. MacArthur Blvd., Oklahoma City, OK 73169.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on August 24, 2012.
Kathy A. DePaepe,
FAA Information Collection Clearance Officer, IT Enterprises Business Services Division, AES-200.

[FR Doc. 2012-21542 Filed 8-30-12; 8:45 am]

BILLING CODE 4910-13-P